DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS) Standards Subcommittee.

Time and Date: July 19, 2010 9 a.m.-5 p.m. July 20, 2010 8:30 a.m.-5 p.m. July 21, 2010 9 a.m.-5 p.m. (committee discussion)

Place: Hamilton Crowne Plaza Hotel, 1001 14th Street, NW., Washington, DC 20005, (202) 682-0111.

Status: Open.

Purpose: The purpose of this upcoming meeting of the Subcommittee on Standards is to receive industry input on a unique health plan identifier to be used in HIPAA standard transactions, and on new operating rules for standards, and their authoring organizations. The Subcommittee will hear testimony from individuals, organizations and associations on these matters. The subcommittee will meet for three consecutive days for which a variety of panels are scheduled; day one will focus on the unique health plan identifier, day two will concentrate on authoring organizations and operating rules for eligibility and health claim status, and day three of the meeting will be reserved for Subcommittee discussion and deliberation.

The NCVHS has been named in the Patient Protection and Affordable Care Act (ACA) of 2010 to review and make recommendations on several HIPAA standards and electronic transactions. This meeting will support these activities in the development of a set of recommendations for the Secretary, as required by section 1104 of the ACA. Text of the ACA can be found at http://dpc.senate.gov/dpcdoc-sen_health_care_bill.cfm.

Contact Person For More Information: Substantive program information as well as summaries of meetings and a roster of committee members may be obtained from Lorraine Doo, lead staff for the Standards Subcommittee, NCVHS, Centers for Medicare and Medicaid Services, Office of E-Health Standards and Services, 7500 Security Boulevard, Baltimore, Maryland, 21244, telephone (410) 786-6597 or Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: June 29, 2010.
James Scanlon,
Deputy Assistant Secretary for Planning and Evaluation, Science and Data Policy, Office of the Assistant Secretary for Planning and Evaluation.

[FR Doc. 2010-16729 Filed 7-8-10; 8:45 am]

BILLING CODE 4151-05-P